DEPARTMENT OF LABOR

Employment and Training Administration

[TA-W-85,357]

Flextronics International Inc., Including On-Site Leased Workers From Aerotek, Onin, Protech, Coworx Staffing Services Also Known as Axcess, Vssi Llc Automation Personnel Services Inc., and Cornerstone Staffing Fort Worth, Texas; Amended Certification Regarding Eligibility To Apply for Worker Adjustment Assistance

In accordance with Section 223 of the Trade Act of 1974, as amended (“Act”), 19 U.S.C. 2273, the Department of Labor issued a Certification of Eligibility to Apply for Worker Adjustment Assistance on August 5, 2014, applicable to workers of Flextronics International Inc., including on-site leased workers from Aerotek, Onin, Protech, and CoWorx Staffing Services also known as Axcess, Fort Worth, Texas (TA-W-85,357) and Motorola Mobility LLC, Mobile Devices, a subsidiary Of Google, Inc., including on-site leased workers from Kelly OCG, TEKsystems, and TATA Consultancy Services, working on-site at Flextronics International Inc., Fort Worth, Texas (TA-W-85,357A). The Department's Notice of Determination was published in the Federal Register on August 22, 2014 (79 FR 49818).

In response to a request by the Texas Workforce Commission, the Department reviewed the certification for workers of the subject firm. The firm is engaged in production of cell phones.

The investigation confirmed that workers from Automation Personnel Services Inc., Cornerstone Staffing, and VSSI LLC worked on-site at the Fort Worth facility and were sufficiently under the operational control of the firm to be considered leased workers. The intent of the Department is to include all workers whose separation or threat of separation is attributable to the shift in production to a foreign country.

The amended notice applicable to TA-W-85,357 is hereby issued as follows:

All workers of Flextronics International Inc., including on-site leased workers from Aerotek, Onin, Protech, CoWorx Staffing Services also known as Axcess, Automation Personnel Services Inc., Cornerstone Staffing, and VSSI LLC, Fort Worth, Texas (TA-W-85,357) and Motorola Mobility LLC, Mobile Devices, a subsidiary Of Google, Inc., including on-site leased workers from Kelly OCG, TEKsystems, and TATA Consultancy Services, working on-site at Flextronics International Inc., Fort Worth, Texas (TA-W-85,357A), who became totally or partially separated from employment on or after June 3, 2013, through August 5, 2015, are eligible to apply for adjustment assistance under Chapter 2 of Title II of the Trade Act of 1974, as amended, and are also eligible to apply for alternative trade adjustment assistance under Section 246 of the Trade Act of 1974, as amended.

Signed in Washington, DC, this 22nd day of August, 2014.
Michael W. Jaffe,
Certifying Officer, Office of Trade Adjustment Assistance.

[FR Doc. 2014-21345 Filed 9-8-14; 8:45 am]

BILLING CODE 4510-FN-P